INTERNATIONAL TRADE COMMISSION

[USITC SE-12-009]

Government in the Sunshine Act Meeting Notice

Agency Holding the Meeting: International Trade Commission.

Time and Date: April 12, 2012 at 9:30 a.m.

Place: Room 101, 500 E Street SW., Washington, DC 20436, Telephone: (202) 205-2000.

Status: Open to the public.

Matters to be Considered:

1. Agendas for future meetings: none.

2. Minutes.

3. Ratification List.

4. Vote in Inv. No. 731-TA-683 (Third Review) (Fresh Garlic from China). The Commission is currently scheduled to transmit its determination and Commissioners' opinions to the Secretary of Commerce on or before April 27, 2012.

5. Outstanding action jackets: none.

In accordance with Commission policy, subject matter listed above, not disposed of at the scheduled meeting, may be carried over to the agenda of the following meeting.

Issued: April 3, 2012.
By Order of the Commission.
James R. Holbein,
Secretary to the Commission.

[FR Doc. 2012-8408 Filed 4-4-12; 11:15 am]

BILLING CODE P